DEPARTMENT OF THE TREASURY

Community Development Financial Institutions Fund

Amendment of Notice of Funds Availability for Native American CDFI Assistance Program; Revised Application Submission Deadline

AGENCY: Community Development Financial Institutions Fund, Department of the Treasury.

ACTION: Notice, amendment, revised submission deadline.

SUMMARY: The Community Development Financial Institutions Fund (CDFI Fund) is amending its Notice of Funds Availability (NOFA) inviting Applications for Financial Assistance (FA) or Technical Assistance (TA) awards for the Native American CDFI Assistance Program, which was published in the Federal Register on January 17, 2025. These amendments promote consistency with recent court decisions regarding race-based preferences and reflect the current Administration's priorities, as reflected in the President's executive orders. Applicants that submitted an Application under the NOFA do not need to withdraw or reapply. The amendments in this notice do not affect steps 1 through 3 of the CDFI Fund's scoring/evaluations process. Applicants that submitted an Application under the NOFA and that advanced to step 4 in the scoring/evaluation process, as described in the NOFA, will be notified by the CDFI Fund and given an opportunity to update their Applications based on the amendments described in this notice.

DATES: Applicants that are notified by the CDFI Fund that they may update their previous Applications under the NOFA must submit such information by 11:59 p.m. Eastern Time on October 27, 2025.

FOR FURTHER INFORMATION CONTACT: Applicants should submit any questions to the CDFI Fund via an AMIS service request to the NACA Program. The CDFI Fund will post on its website responses to reoccurring questions received about this notice. Other information regarding the CDFI Fund may be obtained from the CDFI Fund's website at https://www.cdfifund.gov.

SUPPLEMENTARY INFORMATION:

A. Overview

On January 17, 2025, the CDFI Fund published in the Federal Register (90 FR 6076) a Notice of Funds Availability (the NOFA) inviting Applicants (as defined in the NOFA) to apply for the fiscal year 2025 funding round for the Native American CDFI Assistance Program (NACA Program). The CDFI Fund is amending the NOFA to promote consistency with recent court decisions regarding race-based preferences and to reflect certain priorities of the current Administration.

B. Amendments

1. The first sentence of Section II.C.1 of the NOFA includes “Climate-Focused Financing” in the list of eligible activities for awards under the NOFA. The CDFI Fund is amending this list to remove the reference to “Climate-Focused Financing.”

2. The NOFA defines “Eligible Market” to include, among other things, individuals that are African American, Hispanic, Other Pacific Islander, Filipino, or Vietnamese. The CDFI Fund is removing these portions of the definition. As a result, the fifth sentence of Section II.C.1 of the NOFA, which provides the definition of “Eligible Market,” is amended to read as follows: “Eligible Market is defined as (i) a geographic area meeting the requirements set forth in 12 CFR 1805.201(b)(3)(ii), or (ii) individuals that are Low-Income, Native American, Native Hawaiian, Alaska Native, or Persons with Disabilities.”

1. The NOFA defines “Healthy Foods” for purposes of the Healthy Foods Financing Initiative—Financial Assistance program. The CDFI Fund is amending that definition to align it with the policies of the current Administration. Accordingly, in Section II.C.3 of the NOFA, the definition of “Healthy Foods” is amended to read as follows:

Healthy Foods: Healthy Foods include nutrient-dense foods and beverages consistent with Executive Order 14212, “Establishing the President's Make America Healthy Again Commission,” and the USDA Dietary Guidelines for Americans 2020-2025, including fresh, frozen, or canned whole fruits and vegetables, whole grains, foods low in saturated fats, lean meats, and poultry. Healthy Foods should have low or no added sugars, artificial food dyes, chemical additives, or pesticides; have less sodium, reduced sodium, or no salt added; and not be ultra-processed. (See USDA Dietary Guidelines: https://www.dietaryguidelines.gov).

C. Guidance to Applicants

Applicants that have already submitted an Application (as defined in the NOFA) under the NOFA do not need to withdraw or reapply. The CDFI Fund will provide Applicants under the NOFA that have advanced to step 4 in the scoring/evaluation process the opportunity to update their Applications based on the amendments described in this notice. The CDFI Fund will provide those Applicants with instructions on how to update their Applications in a separate communication. Applicants that are notified by the CDFI Fund that they may update their Applications must submit such information by 11:59 p.m. Eastern Time on October 27, 2025. The CDFI Fund will review Applications in accordance with the NOFA, as amended by this notice. All terms of the NOFA remain as published on January 17, 2025, other than as set forth in this notice.

Dated: September 22, 2025.
Dietrich Douglas,
Acting Director, Community Development Financial Institutions Fund.

[FR Doc. 2025-18560 Filed 9-24-25; 8:45 am]

BILLING CODE 4810-05-P